DEPARTMENT OF THE INTERIOR

Bureau of Land Management

[LLCA 942000 L57000000 BX0000]

Filing of Plats of Survey: California

AGENCY: Bureau of Land Management, Interior.

ACTION: Notice.

SUMMARY: The plats of survey and supplemental plats of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California 95825.

FOR FURTHER INFORMATION CONTACT: Chief, Branch of Geographic Services, Bureau of Land Management, California State Office, 2800 Cottage Way, Room W-1623, Sacramento, California 95825, (916) 978-4310.

SUPPLEMENTARY INFORMATION: These surveys and supplemental plats were executed to meet the administrative needs of various federal agencies; the Bureau of Land Management, Bureau of Indian Affairs or General Services Administration. The lands surveyed are:

Mount Diablo Meridian, California

T. 26 S., R. 33 E., Dependent resurvey and metes-and-bounds survey, accepted May 10, 2011.

T. 23 S., R. 16 E., Dependent resurvey and subdivision of section 20, accepted June 29, 2011.

San Bernardino Meridian, California

T. 9 S., R. 2 W., Supplemental plat of the NW ¼ of the SW ¼ section 34, accepted April 5, 2011.

T. 2 N., R. 17 W., Metes-and-bounds survey, accepted May 9, 2011.

T. 8 S., R. 2 E., Dependent resurvey and subdivision of sections 11 and 12, accepted May 10, 2011.

T. 8 S., R. 3 E., Dependent resurvey and subdivision of sections 7 and 8, accepted May 10, 2011.

T. 9 N., R. 32 W., Supplemental plat, accepted May 16, 2011.

T. 4 S., R. 4 E., Supplemental plat of the NE ¼ SE ¼ of section 26, accepted June 3, 2011.

T. 5 N., R. 28 W., Dependent resurvey, accepted July 22, 2011.

Authority: 43 U.S.C., Chapter 3.

Dated: May 7, 2010.
Lance J. Bishop,
Chief Cadastral Surveyor, California.

[FR Doc. 2011-20457 Filed 8-10-11; 8:45 am]

BILLING CODE 4310-40-P